DEPARTMENT OF TRANSPORTATION

Federal Aviation Administration

14 CFR Part 39

[FAA Rules Docket No. 95-CE-35-AD]

RIN 2120-AA64

Airworthiness Directives; Piper Aircraft, Inc. (Type Certificate Previously Held by The New Piper Aircraft Inc. and Piper Aircraft Corporation) Airplanes

AGENCY: Federal Aviation Administration (FAA), DOT.

ACTION: Proposed rule; withdrawal.

SUMMARY: The FAA is withdrawing a notice of proposed rulemaking (NPRM) and supplemental notice of proposed rulemaking (SNPRM) that proposed to supersede Airworthiness Directive (AD) 92-13-04 for certain Piper Aircraft Corporation (now Piper Aircraft, Inc.) (Piper) Model PA-23-150 (type certificated as PA-23) and PA-23-160 airplanes. AD 92-13-04 requires preflight water draining procedures for the fuel tanks on the affected airplanes. In June 2022, the FAA calculated the quantitative risk using current methods, which were not available at the time the NPRM and SNPRM were issued. The short- and long-term risk assessment calculations establish that an AD for the additional actions and the additional airplane models that were proposed to be added in the NPRM and SNPRM is not warranted. Accordingly, the NPRM and SNPRM are withdrawn.

DATES: As of October 31, 2022, the proposed rules, which published in the Federal Register on September 19, 1995 (60 FR 48433), and February 12, 1998 (63 FR 7085), are withdrawn.

FOR FURTHER INFORMATION CONTACT: Ron Segall, Aviation Safety Engineer, Atlanta ACO Branch, FAA, 1701 Columbia Avenue, College Park, GA 30337; phone: (404) 474-5541; email: ronald.segall@faa.gov.

SUPPLEMENTARY INFORMATION:

Background

The FAA issued an NPRM that proposed to amend part 39 of the Federal Aviation Regulations (14 CFR part 39) to supersede AD 92-13-04, Amendment 39-8274 (57 FR 24938; June 12, 1992) (AD 92-13-04), which applies to certain serial-numbered Piper Model PA-23-150 (type certificated as PA-23) and PA-23-160 airplanes. The NPRM published in the Federal Register on September 19, 1995 (60 FR 48433). The FAA subsequently issued an SNPRM, which published in the Federal Register on February 12, 1998 (63 FR 7085).

The NPRM proposed to:

• Add certain Model PA-23, PA-23-235, and PA-23-250 airplanes to the applicability;

• Retain the preflight draining procedures required by AD 92-13-04 to require incorporating pilots' operating handbook (POH) revisions for Piper Model PA-23-150 and PA-23-160 airplanes that are not equipped with a dual fuel drain kit, part number (P/N) 765-363 (unless already accomplished). The POH revisions are included in Piper Service Bulletin (SB) No. 827A, dated November 4, 1988 (Piper SB No. 827A);

• Require installation of external fuel ramp assemblies on all the affected airplanes in accordance with Floats and Fuel Cells Engineering Specification 2810-002, Revision A, dated March 21, 1995; and

• Delay the compliance for airplanes with Piper Fuel Tank Wedge Kit, P/N 599-367, incorporated in accordance with Piper SB 932A, dated August 30, 1990, until a new fuel tank is installed.

The SNPRM proposed minor changes to the NPRM and was issued as an SNPRM based on the amount of time between the NPRM and the SNPRM.

Actions Since the SNPRM Was Issued

In June 2022, the FAA calculated the quantitative risk of a failure using the current method of assessing risk. This method used, along with the breadth of data that the FAA current has, was not available in 1995/1998 and is the quantitative standard the FAA's continued operational safety community uses to currently assess risk. The FAA risk assessment estimated the future risk of water-in-the-fuel within a one-year period (short-term) and over the next 20 years (long-term) for all Piper PA-23 airplanes, from the first year of operation (1955) to present day (2022). All probable or contributable reported incidents attributed to water-in-the-fuel that were reported were considered. The short- and long-term risk assessment calculations establish that an AD for the additional actions and the additional airplane models that were proposed to be added in the NPRM and SNPRM is not warranted. Accordingly, the NPRM and SNPRM are to be withdrawn.

The FAA will continue to monitor this situation and take appropriate action as required.

Withdrawal of the NPRM and SNPRM constitutes only such action and does not preclude the agency from issuing future rulemaking on this issue, nor does it commit the agency to any course of action in the future.

Regulatory Findings

Since this action only withdraws an NPRM and SNPRM, it is neither a proposed AD nor a final rule and therefore, not covered under Executive Order 12866 or the Regulatory Flexibility Act.

List of Subjects in 14 CFR Part 39

Air transportation, Aircraft, Aviation safety, Incorporation by reference, Safety.

The Withdrawal

Accordingly, the notice of proposed rulemaking, which published in the Federal Register on September 19, 1995 (60 FR 48433), and the supplemental notice of proposed rulemaking, which published in the Federal Register on February 12, 1998 (63 FR 7085), are withdrawn.

Issued on October 20, 2022.
Christina Underwood,
Acting Director, Compliance & Airworthiness Division, Aircraft Certification Service.

[FR Doc. 2022-23170 Filed 10-28-22; 8:45 am]

BILLING CODE 4910-13-P